DEPARTMENT OF ENERGY

Federal Energy Regulatory Commission

18 CFR Part 40

[Docket No. RM08-16-000; Notice of Proposed Rulemaking]

Electric Reliability Organization Interpretations of Specific Requirements of Frequency Response and Bias and Voltage and Reactive Control Reliability Standards

December 15, 2008.

AGENCY: Federal Energy Regulatory Commission.

ACTION: Notice of proposed rulemaking; extension of time for filing comments.

SUMMARY: On November 20, 2008, the Commission issued a Notice of Proposed Rulemaking (NOPR) proposing to accept North American Electric Reliability Corporation's (NERC) interpretation of certain specific requirements of one Commission-approved Reliability Standard, BAL-003-0, Frequency Response and Bias; and to remand NERC's proposed interpretation of VAR-001-1, Voltage and Reactive Control, for reconsideration. (73 FR 71971). This document extends the time for filing comments in response to the Commission's NOPR.

DATES: Effective Date: The date for comments on the NOPR in this proceeding is extended to January 7, 2009.

FOR FURTHER INFORMATION CONTACT: Richard M. Wartchow (Legal Information), Office of the General Counsel, Federal Energy Regulatory Commission, 888 First Street, NE., Washington, DC 20426, (202) 502-8744.

SUPPLEMENTARY INFORMATION:

Notice of Extension of Time

On November 20, 2008, the Commission issued a Notice of Proposed Rulemaking (NOPR) in the above-referenced proceeding. The document was published in the Federal Register on November 26, 2008.¹ The NOPR requested comments to be submitted 30 days following publication in the Federal Register, which date would fall on December 29, 2008.² To provide interested persons additional time to consider the technical issues raised in the NOPR, and in light of the press of other business, including the intervening holiday period, the Commission, acting sua sponte, hereby extends the time to prepare and file comments on the NOPR.

¹ Electric Reliability Organization Interpretations of Specific Requirements of Frequency Response and Bias and Voltage and Reactive Control Reliability Standards, NOPR, Docket No. RM08-16-000, 73 FR 71971 (Nov. 26, 2008), 125 FERC ¶ 61,204 (2008).

² Accounting for the effect of the Executive Order, Closing of Executive Departments and Agencies of the Federal Government on Friday, December 26, 2008 (Dec. 12, 2008).

Upon consideration, notice is hereby given that an extension of time for filing comments in response to the NOPR is granted until and including January 7, 2009.

Kimberly D. Bose,
Secretary.

[FR Doc. E8-30235 Filed 12-18-08; 8:45 am]

BILLING CODE 6717-01-P